DEPARTMENT OF ENERGY

Federal Energy Regulatory Commission

[Project No. 4349-033]

EONY Generation Limited; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 4349-033.

c. Date Filed: April 26, 2024.

d. Applicant: EONY Generation Limited.

e. Name of Project: Moose River Hydroelectric Project.

f. Location: On the Moose River in Lewis County, New York.

g. Filed Pursuant to: Federal Power Act, 16 U.S.C. 791(a)-825(r).

h. Applicant Contact: Gregory Clarke, Chief Electricity Generation Officer, EONY Generation Limited, 7659 Lyonsdale Road, Lyonsdale, NY 13368; email at GregoryClarke@portagepower.com.

i. FERC Contact: Kelly Wolcott, Project Coordinator, Great Lakes Branch, Division of Hydropower Licensing; telephone at (202) 502-6480; email at kelly.wolcott@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 25, 2024.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Moose River Hydroelectric Project (P-4349-033).

m. The application is not ready for environmental analysis at this time.

n. Project Description: The Moose River Project includes a dam that is comprised of: (1) a southern section that includes: (a) an earthen dike; (b) a concrete retaining wall; (c) a 39-foot-long concrete intake structure with: (i) a 3-foot-wide debris sluice gate; and (ii) a 15-foot-wide sluice gate equipped with an approximately 27-foot-wide trashrack with 2-inch clear bar spacing; and (d) a concrete section with a 10-foot-wide stoplog gate; and (2) a northern section that includes: (a) a south abutment; (b) a 240-foot-long spillway that has a crest elevation of 1,024.6 feet National Geodetic Vertical Datum of 1929 (NGVD 29) with a 58-foot-long, 0.5-foot-high notch; and (c) a north abutment.

The dam creates an impoundment that has a surface area of 21 acres at the spillway crest elevation of 1,024.6 feet NGVD, which is the normal maximum surface elevation of the impoundment. From the impoundment, water flows through the intake structure into: (1) an approximately 5,000-foot-long tunnel with a surge chamber; and (2) an approximately 90-foot-long penstock. From the impoundment, water also flows through the debris sluice gate and stoplog gate to an excavated rock channel that discharges into the Moose River approximately 100 feet downstream of the spillway. The penstock conveys water to an underground powerhouse that contains a 12.6-MW Kaplan turbine-generator unit. Water is discharged from the turbine to an approximately 82.5-foot-long tailrace. The project creates an approximately 6,200-foot-long bypassed reach of the Moose River.

The project generator is connected to the regional electric grid by 13.8-kilovolt (kV) underground generator lead lines and a switchyard approximately 400 feet east of the powerhouse that includes a 13.8/115-kV step-up transformer.

Project recreation facilities include: (1) Agers Falls Recreation Area that includes two picnic areas and a 900-foot-long interpretative trail through the historic Agers Mill Complex; (2) Moose River Trail that includes a one-mile-long trail on the shoreline of the bypassed reach; (3) a 230-foot-long boat portage trail from a hand-carry boat access site on the north side of the dam to a hand-carry boat access site approximately 300 feet downstream of the dam; and (4) a car-top boat launch located on the south shore of the impoundment, approximately 850 feet upstream of the dam.

The minimum and maximum hydraulic capacities of the powerhouse are 200 and 1,300 cubic feet per second (cfs), respectively. The average annual energy production of the project from 2016 through 2022, was 51,350 megawatt-hours.

The current license requires EONY to operate the project in an instantaneous run-of-river mode, such that project outflow approximates the “instantaneous sum of the inflow” to the impoundment. EONY maintains the normal maximum surface elevation of the impoundment at the spillway crest elevation of 1,024.6 feet NGVD 29 during non-winter months. During winter months, EONY maintains the surface elevation of the impoundment at 1,024.1 feet NGVD 29, which corresponds to the crest elevation of the notch in the spillway, to manage ice.

The current license requires EONY to release a year-round minimum flow of 60 cfs or inflow, whichever is less, to the bypassed reach. EONY releases the minimum flow through the spillway notch, expect during the winter, when EONY releases the minimum flow through the stoplog gate. Under the current license, EONY is required to provide annual whitewater flow releases downstream of the dam on ten scheduled days and ten unscheduled days, from 12:00 to 7:00 p.m., or one-half hour prior to sunset, whichever is earlier. EONY is required to stop generating electricity during whitewater releases, except when project inflow exceeds 1,500 cfs. At flows above 1,500 cfs, EONY is required to release 1,000 cfs to the bypassed reach for whitewater recreation and can use the remainder of flow for electric generation. EONY is required to ramp down generation upon sign-in of the first boater, and increase flows to the bypassed reach gradually and in equal increments over a period of two hours to provide whitewater flows. Following a whitewater release, EONY ramps up generation upon sign-out of the last boater, and decreases flows to the bypassed reach gradually and in equal increments over a period of one hour.

EONY proposes the following changes to the project boundary: (1) remove approximately 5.4 acres of land adjacent to the impoundment shoreline; (2) remove approximately 6.8 acres of land along the northern shoreline of the bypassed reach; (3) remove approximately 4.5 acres of land associated with Lyonsdale Road; and (4) add approximately 0.8 acre of land and water north of the hand-carry boat put-in site.

EONY proposes to continue operating the project in a run-of-river mode and maintaining a normal maximum surface elevation of 1,024.6 feet NGVD 29 during non-winter months and 1,024.1 feet NGVD 29 during winter months. EONY also proposes to: (1) release a year-round minimum flow of 80 cfs or inflow, whichever is less, to the bypassed reach; (2) implement an impoundment drawdown and cofferdam plan, an invasive species management plan, and a bat and eagle management plan; (3) maintain an existing interpretative display and fencing for the protection of historic properties; (4) continue to operate and maintain existing project recreation facilities; (5) install signage at a hand-carry boat take-out site along the Moose River Trail; (6) continue to provide up to 20 whitewater flow releases per year; and (7) continue ramping during whitewater release days as outlined in the current license.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-4349). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

q. Procedural Schedule: The application will be processed according to the following preliminary schedule. Revisions to the schedule will be made as appropriate.

Issue Deficiency Letter and Request Additional Information—June 2024

Issue Scoping Document 1 for comments—September 2024

Request Additional Information (if necessary)—October 2024

Issue Acceptance Letter—October 2024

Issue Scoping Document 2 (if necessary)—November 2024

Issue Notice of Ready for Environmental Analysis—November 2024

r. Final amendments to the application must be filed with the Commission no later than 30 days from the issuance date of the notice of ready for environmental analysis.

Dated: May 9, 2024.
Debbie-Anne A. Reese,
Acting Secretary.

[FR Doc. 2024-10671 Filed 5-15-24; 8:45 am]

BILLING CODE 6717-01-P